DEPARTMENT OF HEALTH AND HUMAN SERVICES

Centers for Disease Control and Prevention

National Center for Health Statistics (NCHS), Classifications and Public Health Data Standards Staff, Announces the Following Meeting

Name: ICD-9-CM Coordination and Maintenance Committee meeting.

Time and Date: 9 a.m.-4 p.m., September 16-17, 2009.

Place: Centers for Medicare and Medicaid Services (CMS) Auditorium, 7500 Security Boulevard, Baltimore, Maryland.

Status: Open to the public.

Purpose: The ICD-9-CM Coordination and Maintenance (C&M) Committee will hold its second annual meeting of the 2009 calendar year cycle on Wednesday and Thursday September 16-17, 2009. The C&M meeting is a public forum for the presentation of proposed modifications to the International Classification of Diseases, Ninth-Revision, Clinical Modification. There will be 200 telephone lines available from 9 a.m. until 4 p.m. (both days) for those who are unable to attend the meeting in person. The toll-free dial-in number for external participants is 1-877-267-1577; participant code is 974574. Participants attending by telephone do not need to formally register for the meeting. Dial-in lines are available on a first come, first served basis.

Matters To Be Discussed: Tentative agenda items include:

September 16, 2009

ICD-10/MS-DRG update (September 16, 9-11 a.m.)

*Please see list of questions included in this notice.

Insertion of drug-eluting stent into superficial femoral artery.

Circulatory support devices.

Application of lung sealant.

Bronchoscopic bronchial thermoplasty.

Reverse shoulder arthroplasty.

Implantation of antibiotic matrix.

Insertion of hemodynamic monitoring system.

Implantatation of carotid sinus activation device.

Addenda (procedures).

September 17, 2009

Acquired absence of pancreas.

Adverse reactions to blood products.

Cognitive symptoms related to Traumatic Brain Injury (TBI) and other neurological conditions.

Do not resuscitate (DNR).

Heart failure.

IUD surveillance.

Mesh exposure.

Multiple sclerosis expansion.

Neurofibromatosis.

Neurogenic claudication.

Pickwickian syndrome.

Physical restraints.

Stuttering.

Addenda (diagnoses).

Request for Input From Interested Stakeholders Regarding the Freezing of ICD-9-CM and ICD-10-CM/ICD-10-PCS and Related Issues

The ICD-9-CM Coordination and Maintenance Committee is interested in obtaining input on any or all of the following issues:

1. Should ICD-9-CM updates be frozen prior to the October 1, 2013 implementation of ICD-10-CM and ICD-10-PCS?

(a) If yes, should the last update to ICD-9-CM be effective October 1, 2011 (FY 2012) or October 1, 2012 (FY 2013)?

(b) What is the advantage of this date?

(c) What is the disadvantage(s) of freezing the update process?

(d) Do you have any other comments related to freezing the ICD-9-CM classification?

2. Should ICD-10-CM and ICD-10-PCS be frozen prior to the October 1, 2013 implementation of ICD-10-CM and ICD-10-PCS?

(a) If yes, what should be the last update to ICD-10-CM and ICD-10-PCS (FY2012 or FY2013)?

(b) What is the advantage(s) of this date?

(c) What is the disadvantage(s) of freezing the update process?

(d) Do you have any other comments related to freezing the ICD-10-CM and ICD-10-PCS classifications?

3. At what point should the updating of ICD-10-CM and ICD-10-PCS begin again (e.g., October 1, 2014 (FY 2015)?

(a) What is the advantage of this date?

(b) Do you have any other comments related to re-starting the updating process for ICD-10-CM and ICD-10-PCS?

4. What ICD-10 coding products are vendors developing (e.g., ICD-10-CM and ICD-10-PCS code books, encoders, automated mapping applications based on the General Equivalence Mappings)?

5. Currently the CMS abbreviated code titles are limited to 24 characters. With the longer ICD-10-CM and ICD-10-PCS code titles, should consideration be given to expanding these codes titles? If so, how long should the ICD-10-based titles be?

The ICD-9-CM Coordination and Maintenance Committee plans to hear comments on these issues at the September 16, 2009 meeting (9-11 a.m.). We encourage you to attend the meeting and provide these comments and/or to submit written comments on the above issues to Pat Brooks (patricia.brooks2@cms.hhs.gov and Donna Pickett (dfp4@cdc.gov).

Contact Person for Additional Information: Amy Blum, Medical Systems Specialist, Classifications and Public Health Data Standards Staff, NCHS, 3311 Toledo Road, Room 2402, Hyattsville, Maryland 20782, e-mail alb8@cdc.gov, telephone 301-458-4106 (diagnosis), Mady Hue, Health Insurance Specialist, Division of Acute Care, CMS, 7500 Security Blvd., Baltimore, Maryland, 21244, e-mail marilu.hue@cms.hhs.gov, telephone 410-786-4510 (procedures).

Notice: Because of increased security requirements CMS has instituted stringent procedures for entrance into the building by non-government employees. Persons without a government I.D. will need to show an official form of picture I.D., (such as a drivers license), and sign-in at the security desk upon entering the building.

Those who wish to attend a specific ICD-9-CM C&M meeting in the CMS auditorium must submit their name and organization for addition to the meeting visitor list. Those wishing to attend the September 16-17, 2009 meeting must submit their name and organization by September 10, 2009 for inclusion on the visitor list. This visitor list will be maintained at the front desk of the CMS building and used by the guards to admit visitors to the meeting. Those who attended previous ICD-9-CM C&M meetings will no longer be automatically added to the visitor list. You must request inclusion of your name prior to each meeting you attend.

Register to attend the meeting on-line at: http://www.cms.hhs.gov/apps/events/. Participants attending by telephone do not need to formally register for the meeting.

Notice: This is a public meeting. However, because of fire code requirements, should the number of attendants meet the capacity of the room, the meeting will be closed.

The Director, Management Analysis and Services Office, has been delegated the authority to sign Federal Register notices pertaining to announcements of meetings and other committee management activities, for both CDC and the Agency for Toxic Substances and Disease Registry.

Dated: August 26, 2009.
Elaine L. Baker,
Director, Management Analysis and Services Office, Centers for Disease Control and Prevention.

[FR Doc. E9-21288 Filed 9-2-09; 8:45 am]

BILLING CODE 4160-18-P